DEPARTMENT OF DEFENSE

Defense Acquisition Regulations System

48 CFR Part 217

Defense Federal Acquisition Regulation Supplement; Payment of Costs Prior to Definitization—Definition of Contract Action (DFARS Case 2009-D035)

AGENCY: Defense Acquisition Regulations System, Department of Defense (DoD).

ACTION: Final rule.

SUMMARY: DoD is adopting as final, without change, an interim rule amending the Defense Federal Acquisition Regulation Supplement (DFARS) to implement the National Defense Authorization Act for Fiscal Year 2010 to amend the definition of “contract action” to include task orders and delivery orders.

DATES: Effective Date: September 8, 2010.

FOR FURTHER INFORMATION CONTACT: Ms. Meredith Murphy, Defense Acquisition Regulations System, OUSD (AT&L) DPAP/DARS, 3060 Defense Pentagon, Room 3B855, Washington, DC 20301-3060. Telephone 703-602-1302; facsimile 703-602-0350. Please cite DFARS Case 2009-D035.

SUPPLEMENTARY INFORMATION:

A. Background

DoD published an interim rule at 75 FR 10190 on March 5, 2010, to implement section 812 of the National Defense Authorization Act for Fiscal Year 2010 (Pub. L. 111-84), enacted October 28, 2009. Section 812 was entitled “Revision of Defense Supplement Relating to Payment of Costs Prior to Definitization.” The interim rule amended the definition of “contract action” at DFARS 217.7401(a) to include task orders and delivery orders. This had the effect of making task orders and delivery orders subject to DoD's policies and procedures for undefinitized contract actions.

The period for public comment closed on May 5, 2010. DoD received no comments on the interim rule. Therefore, DoD is finalizing the interim rule without change.

This rule was not subject to Office of Management and Budget review under Executive Order 12866, dated September 30, 1993. This is not a major rule under 5 U.S.C. 804.

B. Regulatory Flexibility Act

DoD certifies that this rule will not have a significant economic impact on a substantial number of small entities within the meaning of the Regulatory Flexibility Act, 5 U.S.C. 601, et seq. No comments from small businesses were received during the public comment period, and the changes impose no additional requirements on small businesses that will impact substantially the way they do business with DoD.

C. Paperwork Reduction Act

The Paperwork Reduction Act does not apply because the rule does not impose any information collection requirements that require the approval of the Office of Management and Budget under 44 U.S.C. 3501, et seq.

List of Subjects in 48 CFR Part 217

Government procurement.

Ynette R. Shelkin,
Editor, Defense Acquisition Regulations System.

Interim Rule Adopted as Final Without Change

Accordingly, the interim rule amending 48 CFR part 217 which was published at 75 FR 10190 on March 5, 2010, is adopted as a final rule without change.

[FR Doc. 2010-22228 Filed 9-7-10; 8:45 am]

BILLING CODE 5001-08-P